COURT SERVICES AND OFFENDER SUPERVISION AGENCY

Privacy Act of 1974; System of Records; Notice

AGENCY: Court Services and Offender Supervision Agency.

ACTION: Notice.

Authority: The Privacy Act of 1974 (5 U.S.C. 552a) and Office of Management and Budget (OMB) Circular No. A-130.

SUMMARY: CSOSA is proposing to establish blanket routine uses in order to: (1) Better meet our agency mission, particularly to increase public safety, prevent crime, and reduce recidivism by enhancing information sharing with our law enforcement partners; and (2) lessen the administrative burden on CSOSA by reducing the number of single requests for information from our law enforcement partners.

Unless indicated otherwise by another public notice, these blanket routine uses will apply to following CSOSA systems of records:

CSOSA-9 Supervision Offender Case File

CSOSA-11 Supervision & Management Automated Record Tracking

DATES: CSOSA must forward this Notice to the Office of Management and Budget (OMB) ten (10) days before CSOSA submits the Notice to the Federal Register.

CSOSA must receive public comments on or before September 17, 2009.

This Notice will be effective October 1, 2009 unless public comments are received that warrant a contrary determination.

ADDRESSES: Send comments to CSOSA, Office of the General Counsel, 633 Indiana Avenue, NW., Washington, DC 20004.

FOR FURTHER INFORMATION CONTACT: Rorey Smith, Assistant General Counsel, 202-220-5797.

SUPPLEMENTARY INFORMATION: None.

CSOSA Blanket Routine Uses

Subject: Blanket Routines Uses Applicable to More than One CSOSA Privacy Act System of Records.

Applicability: The following routine uses describe those types of disclosures which are common to more than one CSOSA Privacy Act system of records for which CSOSA is establishing as “blanket” routine uses. These blanket routine uses supplement but do not replace any routine uses that are separately published in the notices of individual record systems to which the blanket routine uses apply.

Routine Uses of Records Maintained in CSOSA Systems, Including Categories of Users and the Purposes of Such Uses: System records may be disclosed to the following persons or entities under the circumstances or for the purposes described below to the extent such disclosures are compatible with the purposes for which the information was collected.

CSOSA-9 (Supervision Offender Case File)

A. To any civil or criminal law enforcement agency, whether Federal, State, or local or foreign, which requires information relevant to a civil or criminal investigation to the extent necessary to accomplish their assigned duties unless prohibited by law or regulation.

B. To a Federal, State, local, foreign, or international law enforcement agency to assist in the general crime prevention and detection efforts of the recipient agency or to provide investigative leads to such agency.

C. To the appropriate Federal, State, local, foreign or other public authority responsible for investigating, prosecuting, enforcing or implementing a statute, rule, regulation, or order where CSOSA becomes aware of an indication of a violation or potential violation of civil or criminal law or regulation unless prohibited by law or regulation.

CSOSA-11 (Supervision & Management Automated Record Tracking)

A. To any civil or criminal law enforcement agency, whether Federal, State, or local or foreign, which requires information relevant to a civil or criminal investigation to the extent necessary to accomplish their assigned duties.

B. To the appropriate Federal, State, local, foreign or other public authority responsible for investigating, prosecuting, enforcing or implementing a statute, rule, regulation, or order where CSOSA becomes aware of an indication of a violation or potential violation of civil or criminal law or regulation.

C. To a Federal, State, local, foreign, or international law enforcement agency to assist in the general crime prevention and detection efforts of the recipient agency or to provide investigative leads to such agency.

D. To Federal, State, and local authorities participating in the JUSTIS database system through database access to limited information to permit a determination of an individual's status under-supervision and the assigned supervision officer to the extent necessary for the accomplishment of the participating authorities' assigned duties.

The participants in the JUSTIS database that will have limited access to CSOSA's SMART information are the Federal Bureau of Prisons, the DC Department of Corrections, the DC Superior Court, the Metropolitan Police Department, the DC Pretrial Services Agency, the United States Attorney's Office for the District of Columbia, the United States Marshals Service, and the United States Parole Commission.

CSOSA Records Systems to Which These Blanket Routine Uses Do Not Apply: These blanket routine uses shall not apply to the following CSOSA Privacy Act systems of records. Only those routine uses established in the records system notice for the particular system shall apply.

CSOSA-1—Public Affairs File

CSOSA-2—Background Investigation

CSOSA-3—Employee Credential System

CSOSA-4—Proximity Card System

CSOSA-5—Budget System

CSOSA-6—Payroll and Leave Records

CSOSA-7—Time and Attendance Records

CSOSA-8—Training Management System

CSOSA-10—Pre-sentence Investigations

CSOSA-12—Recidivism Tracking Database

CSOSA-13—Freedom of Information-Privacy Act System

CSOSA-15—Substance Abuse Treatment Database

CSOSA-16—Screener Database

CSOSA-17—Office of Professional Responsibility Record

CSOSA-18—Sex Offender Registry

CSOSA-19 —Drug Free Workplace Program

Dated: August 10, 2009.
Patricia A. Capers,
Records Manager.

[FR Doc. E9-19739 Filed 8-17-09; 8:45 am]

BILLING CODE 3129-04-P